DEPARTMENT OF TRANSPORTATION

Federal Aviation Administration

Notice of Meeting of the National Parks Overflights Advisory Group Aviation Rulemaking Committee

ACTION: Notice of meeting; correction.

SUMMARY: This document makes a correction to a section heading in the notice of meeting published in the Federal Register on October 4, 2005. That notice announced an upcoming meeting of the National Parks Overflight Advisory Group Aviation Rulemaking Committee.

EFFECTIVE DATE: This correction is effective on October 14, 2005.

FOR FURTHER INFORMATION CONTACT: Barry Brayer, Manager, Executive Resource Staff, Western Pacific Region, telephone: (310) 725-3800.

Correction

In the notice of meeting FR Doc. 05-19785 published on October 4, 2005, (70 FR 57922), make the following correction:

1. On page 57923, in column 1 at the bottom of the page, correct the heading “Agenda for the November 7-8, 2005 Meeting” to read “Agenda for the November 8-9, 2005 Meeting.”

Issued in Washington, DC on October 7, 2005.
Tony Fazio,
Director, Office of Rulemaking.

[FR Doc. 05-20633 Filed 10-13-05; 8:45 am]

BILLING CODE 4910-13-P